DEPARTMENT OF ENERGY

Federal Energy Regulatory Commission

[Docket Nos. ER02-2338-000 and ER02-2338-001]

Energy Investments Management, Inc.; Notice of Issuance of Order

November 5, 2002.

Energy Investments Management, Inc. (EIM) submitted for filing a petition requesting that the Commission grant EIM the authority to sell electricity at market-based rates and to engage in wholesale electric power and energy transactions as a marketer. EIM also requested waiver of various Commission regulations. In particular, EIM requested that the Commission grant blanket approval under 18 CFR part 34 of all future issuances of securities and assumptions of liability by EIM.

On October 18, 2002, pursuant to delegated authority, the Director, Office of Markets, Tariffs and Rates-East, granted requests for blanket approval under Part 34, subject to the following:

Any person desiring to be heard or to protest the blanket approval of issuances of securities or assumptions of liability by EIM should file a motion to intervene or protest with the Federal Energy Regulatory Commission, 888 First Street, NE., Washington, DC 20426, in accordance with Rules 211 and 214 of the Commission's Rules of Practice and Procedure (18 CFR 385.211 and 385.214).

Absent a request to be heard in opposition within this period, EIM is authorized to issue securities and assume obligations or liabilities as a guarantor, indorser, surety, or otherwise in respect of any security of another person; provided that such issuance or assumption is for some lawful object within the corporate purposes of EIM, compatible with the public interest, and is reasonably necessary or appropriate for such purposes.

The Commission reserves the right to require a further showing that neither public nor private interests will be adversely affected by continued approval of EIM's issuances of securities or assumptions of liability.

Notice is hereby given that the deadline for filing motions to intervene or protests, as set forth above, is November 18, 2002.

Copies of the full text of the Order are available from the Commission's Public Reference Branch, 888 First Street, NE., Washington, DC 20426. This order is available for review at the Commission or may be viewed on the Commission's web site at http://www.ferc.gov, using the “FERRIS” link. Enter the docket number excluding the last three digits in the docket number filed to access the document. For assistance, please contact FERC Online Support at FERCOnlineSupport@ferc.gov or toll-free at (866)208-3676, or for TTY, contact (202)502-8659. Comments, protests and interventions may be filed electronically via the Internet in lieu of paper; see 18 CFR 385.2001(a)(1)(iii) and the instructions on the Commission's web site under the “e-Filing” link. The Commission strongly encourages electronic filings.

Magalie R. Salas,
Secretary.

[FR Doc. 02-28730 Filed 11-8-02; 8:45 am]

BILLING CODE 6717-01-P